COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: This action deletes products from the Procurement List previously furnished by nonprofit agencies employing persons who are blind or have other severe disabilities.

DATES: Comments must be received on or before: April 22, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

NSN(s)—Product Name(s):

7510-00-NIB-0240—Business Cards

7510-00-NIB-0265—Business Cards

7510-00-NIB-0266—Business Cards

Mandatory Source of Supply: Envision, Inc., Wichita, KS.

Contracting Activity: General Services Administration, New York, NY.

NSN(s)—Product Name(s):

6260-00-NIB-0005—Lighted Baton—Amber

6260-00-NIB-0006—Lighted Baton—InfraRed

6260-00-NIB-0008—Lighted Baton—Red

6260-00-NIB-0009—Lighted Baton—Green

6260-00-NIB-0010—Lighted Baton—Blue

6260-00-NIB-0011—Lighted Baton—Amber/Red

Mandatory Source of Supply: LC Industries, Inc., Durham, NC.

Contracting Activity: General Services Administration, New York, NY.

Amy B. Jensen,
Director, Business Operations.

[FR Doc. 2018-05926 Filed 3-22-18; 8:45 am]

BILLING CODE 6353-01-P